DEPARTMENT OF TRANSPORTATION

Federal Aviation Administration

14 CFR Part 39

[Docket No. 2003-CE-56-AD]

RIN 2120-AA64

Airworthiness Directives; Valentin GmbH & Co. Taifun 17E Sailplanes

AGENCY: Federal Aviation Administration (FAA), DOT.

ACTION: Notice of proposed rulemaking (NPRM).

SUMMARY: The FAA proposes to adopt a new airworthiness directive (AD) for all Valentin GmbH & Co. Taifun 17E sailplanes. This proposed AD would require you to do an operational check of the front wing-locking mechanism left and right, inspect stop key movement, inspect wing and fuselage side root ribs, inspect the wing side shear force fittings, and take any corrective actions that may be required. This proposed AD is the result of mandatory continuing airworthiness information (MCAI) issued by the airworthiness authority for Germany. We are issuing this proposed AD to detect and correct malfunction of wing-locking mechanism, which could result in failure of the wing-locking mechanism disengagement. This failure could lead to unlocking of wing in flight and consequent loss of control of the sailplane.

DATES: We must receive any comments on this proposed AD by May 27, 2004.

ADDRESSES: Use one of the following to submit comments on this proposed AD:

• By mail: FAA, Central Region, Office of the Regional Counsel, Attention: Rules Docket No. 2003-CE-56-AD, 901 Locust, Room 506, Kansas City, Missouri 64106.

• By fax: (816) 329-3771.

• By e-mail: 9-ACE-7-Docket@faa.gov. Comments sent electronically must contain “Docket No. 2003-CE-56-AD” in the subject line. If you send comments electronically as attached electronic files, the files must be formatted in Microsoft Word 97 for Windows or ASCII.

You may get the service information identified in this proposed AD from KORFF + CO.KG, Dieselstrasse 5, D-63128 Dietzenbach, Germany.

You may view the AD docket at FAA, Central Region, Office of the Regional Counsel, Attention: Rules Docket No. 2003-CE-56-AD, 901 Locust, Room 506, Kansas City, Missouri 64106. Office hours are 8 a.m. to 4 p.m., Monday through Friday, except Federal holidays.

FOR FURTHER INFORMATION CONTACT: Gregory M. Davison, Aerospace Engineer, Small Airplane Directorate, ACE-112, 901 Locust, Room 301, Kansas City, Missouri 64106; telephone: 816-329-4130; facsimile: 816-329-4090.

SUPPLEMENTARY INFORMATION:

Comments Invited

How Do I Comment on This Proposed AD?

We invite you to submit any written relevant data, views, or arguments regarding this proposal. Send your comments to an address listed under ADDRESSES. Include “AD Docket No. 2003-CE-56-AD” in the subject line of your comments. If you want us to acknowledge receipt of your mailed comments, send us a self-addressed, stamped postcard with the docket number written on it. We will date-stamp your postcard and mail it back to you.

Are There Any Specific Portions of This Proposed AD I Should Pay Attention to?

We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What Events Have Caused This Proposed AD?

The Luftfahrt-Bundesamt (LBA), which is the airworthiness authority for Germany, recently notified FAA that an unsafe condition may exist on all Valentin GmbH & Co. Tailfun 17E sailplanes. The LBA reports that during an investigation, an incorrect locked shear force fitting was found.

What Are the Consequences if the Condition Is Not Corrected?

Malfunction of wing-locking mechanism could result in failure of the wing-locking mechanism disengagement. This failure could lead to unlocking of wing in flight and consequent loss of control of the sailplane.

Is There Service Information That Applies to This Subject?

KORFF & Co. KG has issued Service Bulletin SB-KOCO 03/818, dated December 20, 2002.

What Are the Provisions of This Service Information?

The service bulletin either includes procedures for or specifies the following:

—Inspecting the motor glider rigged;

—Inspecting the motor glider derigged;

—Inspecting the wing side shear force fittings;

—Inspecting the wing and fuselage side root ribs;

—Amending text to the Flight Manual and Instruction for Continued Airworthiness;

—Replacing the stop key F1-1300 if any malfunction is found; and

—Possible repairing or replacing of wing and fuselage connection if damage is found.

What Action Did the LBA Take?

The LBA classified this service bulletin as mandatory and issued German AD Number 2003-051, dated January 29, 2003, to ensure the continued airworthiness of these sailplanes in Germany.

Did the LBA Inform the United States Under the Bilateral Airworthiness Agreement?

These Valentin GmbH & Co. Taifun 17E sailplanes are manufactured in Germany and are type-certificated for operation in the United States under the provisions of section 21.29 of the Federal Aviation Regulations (14 CFR 21.29) and the applicable bilateral airworthiness agreement.

Under this bilateral airworthiness agreement, the LBA has kept us informed of the situation described above.

FAA's Determination and Requirements of This Proposed AD

What Has FAA Decided?

We have examined the LBA's findings, reviewed all available information, and determined that AD action is necessary for products of this type design that are certificated for operation in the United States.

Since the unsafe condition described previously is likely to exist or develop on other Valentin GmbH & Co. Taifun 17E sailplanes of the same type design that are registered in the United States, we are proposing AD action to detect and correct malfunction of wing-locking mechanism, which could result in failure of the wing-locking mechanism disengagement. This failure could lead to unlocking of wing in flight and consequent loss of control of the sailplane.

What Would This Proposed AD Require?

This proposed AD would require you to incorporate the actions in the previously-referenced service bulletin.

How Does the Revision to 14 CFR Part 39 Affect This Proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How Many Sailplanes Would This Proposed AD Impact?

We estimate that this proposed AD affects 25 sailplanes in the U.S. registry.

What Would Be the Cost Impact of This Proposed AD on Owners/Operators of the Affected Sailplanes?

We estimate the following costs to accomplish the proposed inspections:

Labor cost | Parts cost | Total cost per sailplane | Total cost on U.S. operators
2 work hours × $65 per hour = $130 | No parts needed for inspection | $130 | $3,250

We estimate the following costs to accomplish replacement of the stop key F1-1300 that would be required based on the results of the proposed inspections. We have no way of determining the number of sailplanes that may need the stop key F1-1300 replaced or the number of sailplanes that may need additional repair because of abrasion. We also do not know the cost that would be associated with any abrasion repair:

Labor cost | Parts cost | Total cost per sailplane
3 work hours × $65 per hour = $195 | $16 each × 2 (2 are required) = $32 | $227

Regulatory Findings

Would This Proposed AD Impact Various Entities?

We have determined that this proposed AD would not have federalism implications under Executive Order 13132. This proposed AD would not have a substantial direct effect on the States, on the relationship between the national Government and the States, or on the distribution of power and responsibilities among the various levels of government.

Would This Proposed AD Involve a Significant Rule or Regulatory Action?

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2003-CE-56-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Valentin GmbH & Co.: Docket No. 2003-CE-56-AD.

When Is the Last Date I Can Submit Comments on This Proposed AD?

(a) We must receive comments on this proposed airworthiness directive (AD) by May 27, 2004.

What Other ADs Are Affected by This Action?

(b) None.

What Sailplanes Are Affected by This AD?

(c) This AD affects the following sailplane models and serial numbers that are certificated in any category: Valentin GmbH & Co. Taifun 17E, all serial numbers are affected except those where Service Bulletin 23-818 has been complied with.

What Is the Unsafe Condition Presented in This AD?

(d) This AD is the result of an incorrect locked shear force fitting, which may have caused wing-locking mechanism disengagement. The actions specified in this AD are intended to detect and correct malfunction of the wing-locking mechanism, which could result in wing-locking mechanism disengagement. This failure could lead to unlocking of wing in flight and subsequent loss of control of the sailplane.

What Must I Do To Address This Problem?

(e) To address this problem, you must do the following:

Actions | Compliance | Procedures
(1) Perform the following actions with the motor glider rigged (i) An operational check of the front wing locking mechanism left and right for damage, deformation, and smooth operation over full travel range. (ii) A visual inspection of the motor glider for stop key movement. The stop key should not move more than 2mm (the maximum tolerable distance to stop position) in the full front stop position | Inspect within 25 hours time in service (TIS) after the effective date of this AD. Repetitively inspect every 25 hours TIS thereafter | Inspect following the Korff + CO.KG Service Bulletin SB-KOCO 03/818, dated December 20, 2002.
(2) Perform the following actions with the motor glider derigged (i) An operational check of the front wing locking mechanism left and right for damage, deformation, and smooth operation over full travel range. (ii) A visual inspection of the motor glider for stop key movement. You should not be able to move the stop key by hand more than 2mm backwards in the full locked front position | Inspect within 25 hours TIS after the effective date of this AD. Repetitively inspect every 25 hours TIS thereafter | Inspect following the Korff + CO.KG Service Bulletin SB-KOCO 03/818, dated December 20, 2002.
(3) If deficiencies are found during the inspections required in paragraphs (e)(1) and (e)(2), correct, repair, or replace the defective parts | Do corrective actions prior to further flight | Correct, repair, or replace defective parts following the Korff + CO.KG Service Bulletin SB-KOCO 03/818, dated December 20, 2002.
(4) Inspect the wing side shear force fittings, wing and fuselage side root ribs, and around all fittings (shear force fittings, wing connections studs, wing connection bushings, connection to the telescopic rods, rear center studs and bushings) for abrasion, deformation, damage, defective bonding, and defective connections. If any of the above conditions are found, contact the manufacturer at the address specified in paragraph (g) of this AD for FAA-approved corrective action and perform the corrective action. You must send a copy of correspondence you send to the manufacturer to the FAA at the address in paragraph (f) | Inspect within 25 hours TIS after the effective date of this AD. Repetitively inspect every 25 hours TIS thereafter. Perform corrective action prior to further flight | Inspect following the Korff + CO.KG Service Bulletin SB-KOCO 03/818, dated December 20, 2002.
(5) When corrective action or maintenance is done, do an operational check of the motor glider in the rigged and derigged configuration | After corrective action or maintenance is done, you must do the operational check prior to further flight | Do the operational check following the Korff + CO.KG Service Bulletin SB-KOCO 03/818, dated December 20, 2002.

May I Request an Alternative Method of Compliance?

(f) You may request a different method of compliance or a different compliance time for this AD by following the procedures in 14 CFR 39.19. The principal inspector may add comments and will send your request to the Manager, Standards Office, FAA, Small Airplane Directorate, 901 Locust, Room 301, Kansas City, Missouri 64106. For information on any already approved alternative methods of compliance, contact Gregory M. Davison, Aerospace Engineer, Small Airplane Directorate, ACE-112, 901 Locust, Room 301, Kansas City, Missouri 64106; telephone: 816-329-4130; facsimile: 816-329-4090.

May I Get Copies of the Documents Referenced in This AD?

(g) You may get copies of the documents referenced in this AD from KORFF + CO.KG, Dieselstrasse 5, D-63128 Dietzenbach, Germany. You may view these documents at FAA, Central Region, Office of the Regional Counsel, 901 Locust, Room 506, Kansas City, Missouri 64106.

Is There Other Information That Relates to This Subject?

(h) LBA airworthiness directive 2003-051, dated January 29, 2003; and Korff + CO.KG Service Bulletin SB-KOCO 03/818, dated December 20, 2002, also address the subject of this AD.

Issued in Kansas City, Missouri on April 16, 2004.
James E. Jackson,
Acting Manager, Small Airplane Directorate, Aircraft Certification Service.

[FR Doc. 04-9113 Filed 4-21-04; 8:45 am]

BILLING CODE 4910-13-P